DEPARTMENT OF THE INTERIOR

Fish and Wildlife Refuge

Hobe Sound National Wildlife Refuge

AGENCY: Fish and Wildlife Service, Interior.

ACTION: Notice of availability of the Final Comprehensive Conservation Plan and Finding of No Significant Impact for Hobe Sound National Wildlife Refuge in Martin County, Florida.

SUMMARY: The Fish and Wildlife Service announces that a Final Comprehensive Conservation Plan and Finding of No Significant Impact for Hobe Sound National Wildlife Refuge are available for distribution. The plan was prepared pursuant to the National Wildlife Refuge System Improvement Act of 1997, and in accordance with the National Environment Policy Act of 1969, and describes how the refuge will be managed for the next 15 years. The compatibility determinations for fishing, wildlife observation, wildlife photography, environmental education and interpretation, research, and pets are also available within the plan.

ADDRESSES: A copy of the plan may be obtained by writing to the Refuge Manager, Hobe Sound National Wildlife Refuge, 13640 SE. Federal Highway, Hobe Sound, Florida 33455. The plan may also be accessed and downloaded from the Fish and Wildlife Service's Web site: http://southeast.fws.gov/planning/.

SUPPLEMENTARY INFORMATION: Hobe Sound National Wildlife Refuge is in Martin County, Florida, about 20 miles south of Stuart, Florida, and 30 miles north of West Palm Beach, Florida. The refuge covers a total of 1,160 acres within the acquisition boundary. The refuge consists of a 300-acre River Lagoon. The primay vegetation classes on the Mainland Tract consist mainly of sand pine scrub, wetland, mangrove, and hammock habitats. The Jupiter Island Tract has a 3.5-mile sea turtle nesting beach—one of the most productive in Florida—and several hardwood hammocks and mangrove wetlands. Annually, more than 120,000 visitors participate in refuge and nature center activities.

The availability of the Draft Comprehensive Conservation Plan and Environmental Assessment for a 45-day public review and comment period was announced in the Federal Register on January 26, 2004, (69 FR 3590). The plan and Environmental assessment identified and evaluated four alternatives for managing the refuge over the next 15 years. Alternative 1, the “No Action” alternative, would have continued current management of the refuge within the approved acquisition boundary. Under Alternative 2 (Ecosystem Emphasis), refuge lands would be protected, maintained, and enhanced by adding more staff, equipment, and facilities in order to restore and manage the unique habitats and more than 40 threatened and endangered species. Alternative 3 (Biological Emphasis) would add more staff, equipment, and facilities in order to maximize the biological program. Alternative 4 (Public Use Emphasis) would add more staff, equipment, and facilities in order to foster the refuge's public use program.

Based on the environmental assessment and the comments received, the Service adopted a modified version of Alternative 2 (Ecosystem Emphasis) as its preferred alternative. This alternative was considered to be the most effective for meeting the purposes of the refuge by enhancing habitat for threatened and endangered species, and by downsizing selected projects to help maintain the unique qualities of the refuge that make it so special to the community. The overriding concern reflected in this alternative is that wildlife conservation assumes first priority in refuge management; wildlife-dependent recreational uses (e.g., fishing, wildlife observation, wildlife photography, and environmental education and interpretation) will be emphasized and encouraged as long as they are compatible with wildlife conservation. Altnerative 2 best achieves national, ecosystem, and refuge-specific goals and objectives and positively addresses significant issues and concerns expressed by the public.

FOR FURTHER INFORMATION CONTACT: Margo Stahl, Refuge Manager, Hobe Sound National Wildlife Refuge Complex, telephone: 772/546-6141; fax: 772/545-7572; e-mail: margo_stahl@fws.gov; or by writing to the Refuge Manager at the address in the ADDRESSES section.

Authority: This notice is published under the authority of the National Wildlife Refuge System Improvement Act of 1997, Public Law 105-57.

Dated: June 5, 2006.
Sam D. Hamilton,
Regional Director.

[FR Doc. 07-347 Filed 1-26-07; 8:45 am]

BILLING CODE 4310-55-M